NATIONAL TRANSPORTATION SAFETY BOARD

Sunshine Act Meeting

AGENDA

TIME AND DATE: 9:00 a.m., Tuesday, January 23, 2018.

PLACE: NTSB Conference Center, 429 L'Enfant Plaza SW, Washington, DC 20594.

STATUS: The one item is open to the public.

MATTERS TO BE CONSIDERED: 5292 Aircraft Accident Report—Uncontained Engine Failure and Subsequent Fire, American Airlines Flight 383, Boeing 767-323, N345AN, Chicago, Illinois, October 28, 2016.

NEWS MEDIA CONTACT: Telephone: (202) 314-6100. The press and public may enter the NTSB Conference Center one hour prior to the meeting for set up and seating.

Individuals requesting specific accommodations should contact Rochelle McCallister at (202) 314-6305 or by email at Rochelle.McCallister@ntsb.gov by Wednesday, January 17, 2018.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Peter Knudson at (202) 314-6100 or by email at peter.knudson@ntsb.gov.

Dated: December 29, 2017.
LaSean McCray,
Alternate Federal Register Liaison Officer.

[FR Doc. 2017-28508 Filed 12-29-17; 4:15 pm]

BILLING CODE 7533-01-P